DEPARTMENT OF HEALTH AND HUMAN SERVICES

Office of the Secretary

[Document Identifier HHS-OS-18774-30D]

Agency Information Collection Activities; Submission to OMB for Review and Approval; Public Comment Request

AGENCY: Office of the Secretary, HHS.

ACTION: Notice.

SUMMARY: In compliance with section 3507(a)(1)(D) of the Paperwork Reduction Act of 1995, the Office of the Assistant Secretary for Planning and Evaluation (ASPE), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before July 19, 2013.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-ASPE-18774-30D for reference.

Information Collection Request Title: Survey of Physician Time Use Patterns Under the Medicare Fee Schedule

Abstract: The objectives of this study are to conduct initial exploration of the time inputs to the Medicare Fee Schedule. The information, to be collected through primary data collection and analysis of administrative data, will help Assistant Secretary Planning and Evaluation (ASPE) to better understand—for a limited number of services and specialties—one aspect of how clinical services are delivered and the relationships between the clinical time spent by physicians and the time that is currently part of the fee schedule. The total average burden hours for which we are seeking approval in this package is 200 hours. The survey will be multi-mode, with 50% of responses anticipated via the web survey, 45% through the mail, and 5% over the phone. The latter will be obtained by interviewers who conduct a follow up with non-respondents by telephone to prompt completion of the survey; they will provide an opportunity to complete the paper survey over the phone. The surveys are estimated to take an average of 20 minutes to complete. Need and Proposed Use of the Information: The intended data collection effort is a survey of physician providers in five specialties (family medicine, radiology, cardiology, ophthalmology, and orthopedics) to gather information on the clinical time spent by the physician and associated non-physician providers in providing selected services as well as related information on the physician's practice. The information collected focuses on the time data that is used as an input in the fee schedule. As part of the project, the time data collected in the survey of physicians will be analyzed along with time input data from the fee schedule to examine (i) the strength of the correlation between physician-reported clinical time and fee-schedule time values for surveyed services; (ii) how consistent the relationships are across services and across specialties; (iii) whether the relationships vary across physicians in different types of practice settings; and (iv) whether this approach to gathering time data is feasible and could be scaled up for a larger effort.

Likely Respondents: A total of 600 physicians are expected to complete the survey. This includes 120 primary care physicians and 480 specialists including Ophthalmologists, Orthopedists, Radiologists, and Cardiologists.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
Primary Care | 120 | 1 | 20/60 | 40
Specialists | 480 | 1 | 20/60 | 160
Total | 600 | 600 | 200 | 200

Darius Taylor,
Deputy Information Collection Clearance Officer.

[FR Doc. 2013-14591 Filed 6-18-13; 8:45 am]

BILLING CODE 4150-05-P